DEPARTMENT OF STATE

22 CFR Part 51

RIN 1400-AC28

[Public Notice: 6084]

Revisions to Passport Regulations; Correction

AGENCY: Department of State.

ACTION: Final rule; correction.

SUMMARY: This document contains correction to the revised Passport rule published in the Federal Register on November 19, 2007 [Public Notice 5991].

DATE: Effective on February 1, 2008.

FOR FURTHER INFORMATION CONTACT: Consuelo Pachon, Office of Legal Affairs and Law Enforcement Liaison, Bureau of Consular Affairs, 2100 Pennsylvania Avenue, NW., Suite 3000, Washington, DC, telephone number 202-663-2431.

Correction

The final rule published on November 19, 2007 (72 FR 64930) is corrected as follows:

1. In the SUPPLEMENTARY INFORMATION section, on page 64930, in the third column, final paragraph, the first sentence is corrected by removing the words “for first time passport applicants.” The sentence as corrected reads “The passport application process is designed to verify the citizenship and identity of the applicant.”

2. On page 64932, 22 CFR 51.1(j) is corrected to read as follows:

“§ 51.1 Definitions.

* * * * *

(j) United States when used in a geographical sense means the continental United States, Alaska, Hawaii, Puerto Rico, Guam, the Virgin Islands of the United States, and all other United States territories and possessions.

* * * * *

3. On page 64936, 22 CFR 51.51(e) is corrected to place quotes around the term “enhanced border security” and reads as follows:

“§ 51.51 Passport fees.

* * * * *

(e) An “enhanced border security” surcharge on the filing of each application for a regular passport in an amount set administratively by the Department and published in the Schedule of Fees for Consular Services.

* * * * *

Dated: January 24, 2008.
Ann Barrett,
Deputy Assistant Secretary, Bureau of Consular Affairs, Department of State.

[FR Doc. E8-1670 Filed 1-29-08; 8:45 am]

BILLING CODE 4710-06-P